DEPARTMENT OF HOMELAND SECURITY

Coast Guard

33 CFR Part 117

[Docket No. USCG-2014-0530]

Drawbridge Operation Regulation; New Jersey Intracoastal Waterway (NJICW), Atlantic City, NJ

AGENCY: Coast Guard, DHS.

ACTION: Notice of deviation from drawbridge regulation.

SUMMARY: The Coast Guard has issued a temporary deviation from the operating schedule that governs the US Route 30 (Absecon Boulevard) Bridge across Beach Thorofare, NJICW mile 67.2, and the US Route 40-322 (Albany Avenue) bridge across Inside Thorofare, NJICW mile 70.0, both at Atlantic City, NJ. The deviation is necessary to accommodate the egress of vehicles following two concert events. This deviation allows the bridge to remain in the closed to navigation position to permit the free movement of vehicles during two separate Beach Country concerts.

DATES: This deviation is effective from 8 p.m. to 10 p.m. on Thursday July 31, 2014 and from 8 p.m. to 10 p.m. on Sunday August 3, 2014.

ADDRESSES: The docket for this deviation, USCG 2014-0530, is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or e-mail Mrs. Jessica Shea, Bridge Management Specialist, Fifth Coast Guard District, telephone (757) 398-6422, email jessica.c.shea2@uscg.mil. If you have questions on viewing the docket, call Cheryl Collins, Program Manager, Docket Operations, telephone 202-366-9826.

SUPPLEMENTARY INFORMATION: The New Jersey Department of Transportation requested a temporary deviation from the current operating regulations of the US Route 30 (Absecon Boulevard) Bridge across Beach Thorofare, NJICW mile 67.2 and the US40-322 (Albany Avenue) across Inside Thorofare, NJICW mile 70.0, both at Atlantic City, NJ. The temporary deviation has been requested to ensure the safety of the heavy numbers of pedestrians and vehicular traffic that would be transiting over the bridges for the two concerts at Bader Field located within the city limits.

Route 30/Absecon Boulevard Bridge

The current operating regulation for this bridge is outlined fully in 33 CFR 117.733(e). During the requested closure period for the event, the draw would be required to open on the hour. In the closed position to vessels, the vertical clearance for this bascule-type bridge is 20 feet, above mean high water.

US40-322 (Albany Avenue) Bridge

The current operating regulation for this bridge is outlined fully in 33 CFR 117.733(f). During the requested closure period for the event, the draw would be required to open on the hour and half hour from 6 p.m. to 9 p.m. and open on demand from between 9 p.m. to 10 p.m. In the closed position to vessels, the vertical clearance for this bascule-type bridge is 10 feet, above mean high water.

Under this temporary deviation both bridges will be closed, from 8 p.m. to 10 p.m. on Thursday July 31, 2014 and from 8 p.m. to 10 p.m. on Sunday August 3, 2014. Between the dates of the two closure periods the bridges shall return to their regular operating schedules.

The majority of the vessels that transit the bridges this time of the year are recreational boats. Vessels able to pass through the bridges in the closed positions may do so at anytime. Both bridges will be able to open for emergencies. The Atlantic Ocean is an alternate route for vessels unable to pass through the bridges in closed positions. The Coast Guard will also inform the users of the waterways through our Local and Broadcast Notices to Mariners of the closure periods for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: June 30, 2014.
Waverly W. Gregory, Jr.,
Bridge Program Manager, Fifth Coast Guard District.

[FR Doc. 2014-16329 Filed 7-11-14; 8:45 am]

BILLING CODE 9110-04-P